INTERNATIONAL TRADE COMMISSION

[Investigation No. 731-TA-44 (Second Review)]

Sorbitol From France

Determination

On the basis of the record ¹ developed in the subject five-year review, the United States International Trade Commission determines,² pursuant to section 751(c) of the Tariff Act of 1930,³ that revocation of the antidumping duty order on sorbitol from France would be likely to lead to continuation or recurrence of material injury to an industry in the United States within a reasonably foreseeable time.

¹ The record is defined in section 207.2(f) of the Commission's Rules of Practice and Procedure (19 CFR 207.2(f)).

² Vice Chairman Deanna Tanner Okun and Commissioners Charlotte R. Lane and Daniel R. Pearson dissenting.

³ 19 U.S.C. 1675(c).

Background

The Commission instituted this review on February 2, 2004 (69 FR 4981), and determined on May 7, 2004, that it would conduct an expedited review (69 FR 28949, May 19, 2004).

July 16, 2004.
By order of the Commission.
Marilyn R. Abbott,
Secretary to the Commission.

[FR Doc. 04-16652 Filed 7-22-04; 8:45 am]

BILLING CODE 7020-02-P